DEPARTMENT OF LABOR

Employment and Training Administration

[TA-W-62,282]

National Starch and Chemical Company Specialty Starches Division Including On-Site Leased Workers From Page Employment, Island Falls, ME; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 13, 2007, applicable to workers of National Starch and Chemical Company, Specialty Starches Division, Island Falls, Maine. The notice was published in the Federal Register on December 31, 2007 (72 FR 74343).

At the request of the State agency, the Department reviewed the certification for workers of the subject firm. The workers were engaged in the production of drum dried and modified food starches.

New information shows that workers leased from Page Employment were employed on-site at the Island Falls, Maine location of National Starch and Chemical Company, Specialty Starches Division. The Department has determined that these workers were sufficiently under the control of the subject firm.

Based on these findings, the Department is amending this certification to include leased workers of Page Employment working on-site at the Island Falls, Maine location of the subject firm.

The amended notice applicable to TA-W-62,282 is hereby issued as follows:

All workers of National Starch and Chemical Company, Specialty Starches Division, including on-site leased workers from Page Employment, Island Falls, Maine, who became totally or partially separated from employment on or after October 5, 2006, through December 13, 2009, are eligible to apply for adjustment assistance under Section 223 of the Trade Act of 1974, and are also eligible to apply for alternative trade adjustment assistance under Section 246 of the Trade Act of 1974.

Signed at Washington, DC, this 16th day of December 2009
Richard Church,
Certifying Officer, Division of Trade Adjustment Assistance.

[FR Doc. E9-31386 Filed 1-5-10; 8:45 am]

BILLING CODE 4510-FN-P